DEPARTMENT OF THE INTERIOR

National Park Service

Boundary Establishment for Flight 93 National Memorial

AGENCY: National Park Service.

ACTION: Notice of boundary establishment.

SUMMARY: Notice is hereby given that, pursuant to Public Law 107-226 (116 Stat. 1345, 16 U.S.C. 431 note), dated September 24, 2002, a boundary is hereby established for Flight 93 National Memorial, located in Somerset County, Pennsylvania, to encompass lands depicted on Map No. 04-01 that was attached to Resolution 0401 issued by the Flight 93 Advisory Commission on July 30, 2004.

FOR FURTHER INFORMATION CONTACT: Superintendent, Flight 93 National Memorial, 109 West Main Street, Suite 104, Somerset, PA 15501-2035.

SUPPLEMENTARY INFORMATION: Public Law 107-226 (116 Stat. 1345, 16 U.S.C. 431 note), dated September 24, 2002, established the Flight 93 National Memorial to commemorate the passengers and crew of United Airlines Flight 93 who, on September 11, 2001, courageously gave their lives, thereby thwarting a planned attack on our Nation's Capital. Public Law 107-226 established the Flight 93 Advisory Commission and directed the Commission to advise the Secretary of the Interior on the boundary of the memorial site. On July 30, 2004, the Commission's Resolution 0401 advised the Secretary of the Interior to establish the boundary as depicted on Map No. 04-01. By a letter to the Commission, dated January 14, 2005, the Secretary of the Interior accepted the Commission's advice to establish the boundary as provided in Resolution 0401.

The map is on file and available for inspection in the Land Resources Program Center, Northeast Regional Office, U.S. Customs House, 200 Chestnut Street, 3rd Floor, Philadelphia, Pennsylvania 19106-2988, in the Office of the National Park Service, Department of the Interior, Washington, DC 20240 and in the Office of Flight 93 National Memorial, 109 West Main Street, Somerset, Pennsylvania 15501.

Dated: February 7, 2005.
Joanne M. Hanley,
Superintendent, Flight 93 National Memorial National Park Service.

[FR Doc. 05-5449 Filed 3-18-05; 8:45 am]

BILLING CODE 4310-WH-M